Executive Order 13261 of March 19, 2002

Providing An Order of Succession in the Environmental Protection Agency and Amending Certain Orders on Succession

By the authority vested in me as President by the Constitution and the laws of the United States of America, including the Federal Vacancies Reform Act of 1998, 5 U.S.C. 3345, et seq., it is hereby ordered that:

Section 1. Subject to the provisions of section 3 of this order, the officers named in section 2, in the order listed, shall act as and perform the functions and duties of the office of the Administrator of the Environmental Protection Agency (Administrator) during any period when both the Administrator and the Deputy Administrator of the Environmental Protection Agency have died, resigned, or become otherwise unable to perform the functions and duties of the office of Administrator.

Sec. 2. Order of Succession.

(a) Assistant Administrator for Toxic Substances;

(b) Assistant Administrator (Air and Radiation);

(c) Assistant Administrator, Office of Solid Waste;

(d) Assistant Administrator (Water Programs);

(e) Assistant Administrator (General Counsel);

(f) Assistant Administrator (Enforcement and Compliance Assurance);

(g) Chief Financial Officer;

(h) Assistant Administrator (Research and Development);

(i) Assistant Administrator (International Activities);

(j) Assistant Administrator (Administration and Resources Management); and

(k) Assistant Administrator (Environmental Information).

Sec. 3. Exceptions.

(a) No individual who is serving in an office listed in section 2(a)-(k) in an acting capacity, by virtue of so serving, shall act as Administrator pursuant to this order.

(b) Notwithstanding the provisions of this order, the President retains discretion, to the extent permitted by the Federal Vacancies Reform Act of 1998, 5 U.S.C. 3345 et seq., to depart from this order in designating an acting Administrator.

Sec. 4. Amendments to Certain Executive Orders providing Orders of Succession. Executive Orders 13241, 13242, 13243, 13244, 13245, 13246, and 13247 of December 18, 2001, and Executive Orders 13250 and 13251 of December 28, 2001, are hereby amended as follows:

(a) Section 3(a) of Executive Order 13241 of December 18, 2001, entitled “Providing an Order of Succession Within the Department of Agriculture,” is replaced with the following: “(a) No individual who is serving in an office listed in section 2(a)-(j) in an acting capacity shall, by virtue of so serving, act as Secretary pursuant to this order.”;

(b) Section 3(a) of Executive Order 13242 of December 18, 2001, entitled “Providing an Order of Succession Within the Department of Commerce,” is replaced with the following: “(a) No individual who is serving in an office listed in section 2(a)-(h) in an acting capacity shall, by virtue of so serving, act as Secretary pursuant to this order.”;

(c) Section 3(a) of Executive Order 13243 of December 18, 2001, entitled “Providing an Order of Succession Within the Department of Housing and Urban Development,” is replaced with the following: “(a) No individual who is serving in an office listed in section 2(a)-(i) in an acting capacity shall, by virtue of so serving, act as Secretary pursuant to this order.”;

(d) Section 3(a) of Executive Order 13244 of December 18, 2001, entitled “Providing an Order of Succession Within the Department of the Interior,” is replaced with the following: “(a) No individual who is serving in an office listed in section 2(a)-(f) in an acting capacity shall, by virtue of so serving, act as Secretary pursuant to this order.”;

(e) Section 3(a) of Executive Order 13245 of December 18, 2001, entitled “Providing an Order of Succession Within the Department of Labor,” is replaced with the following: “(a) No individual who is serving in an office listed in section 2(a)-(l) in an acting capacity shall, by virtue of so serving, act as Secretary pursuant to this order.”;

(f) Section 3(a) of Executive Order 13246 of December 18, 2001, entitled “Providing an Order of Succession Within the Department of the Treasury,” is replaced with the following: “(a) No individual who is serving in an office listed in section 2(a)-(c) in an acting capacity shall, by virtue of so serving, act as Secretary pursuant to this order.”;

(g) Section 3(a) of Executive Order 13247 of December 18, 2001, entitled “Providing an Order of Succession Within the Department of Veterans Affairs,” is replaced with the following: “(a) No individual who is serving in an office listed in section 2(a)-(h) in an acting capacity shall, by virtue of so serving, act as Secretary pursuant to this order.”;

(h) Section 3(a) of Executive Order 13250 of December 28, 2001, entitled “Providing an Order of Succession Within the Department of Health and Human Services,” is replaced with the following: “(a) No individual who is serving in an office listed in section 2(a)-(c) in an acting capacity shall, by virtue of so serving, act as Secretary pursuant to this order.” and;

(i) Section 3(b) of Executive Order 13251 of December 28, 2001, entitled “Providing an Order of Succession Within the Department of State,” is replaced with the following: “(b) No individual who is serving in an office listed in section 2(a)-(m) in an acting capacity shall, by virtue of so serving, act as Secretary pursuant to this order.”.

B

THE WHITE HOUSE,

March 19, 2002.

[FR Doc. 02-7087

Filed 3-20-02; 12:12 pm]

Billing code 3195-01-P